DEPARTMENT OF COMMERCE

Foreign-Trade Zones Board

[Docket 11-2001]

Foreign-Trade Zone 147—Reading, Pennsylvania; Application for Subzone Status; Amendment of Application—C&J Clark America, Inc. (Distribution of Footwear)

Notice is hereby given that the application of the Foreign-Trade Zone Corporation of Southeastern Pennsylvania, grantee of FTZ 147, requesting special-purpose subzone status for the footwear warehousing/distribution facility of C&J Clark America, Inc. (Clark), in Hanover, Pennsylvania (66 FR 12459, 2/27/01), has been amended to include an additional building (71,153 sq. ft.) within the subzone. The building will be used for receiving, storage, handling, packaging, distributing and shipping footwear.

The application remains otherwise unchanged.

The comment period is reopened until September 7, 2001.

Dated: August 2, 2001.
Dennis Puccinelli,
Executive Secretary.

[FR Doc. 01-19914 Filed 8-7-01; 8:45 am]

BILLING CODE 3510-DS-P